DEPARTMENT OF TRANSPORTATION

Federal Motor Carrier Safety Administration

[Docket Nos. FMCSA-98-4334, FMCSA-2000-7165, FMCSA-2000-7363, FMCSA-2002-12844, FMCSA-2002-13411]

Qualification of Drivers; Exemption Applications; Vision

Correction

In notice document 05-2756 beginning on page 7545 in the issue of Monday, February 14, 2005, make the following corrections:

1. On page 7545, in the third column, under the heading Exemption Decision, in the list of names after the first paragraph, in the seventh line, “harry P. Henning” should read “Harry P. Henning.”

2. On the same page, in the same column, under the same heading, in the eighth line of the list of names, “Bruce G. Hoemr” should read “Bruce G. Horner.”

3. On the same page, in the same column, under the same heading, in the 12th line of the list of names, “Stnaley B. Salkowski III” should read “Stanley B. Salkowski III.” ÿ7E

[FR Doc. C5-2756 Filed 2-18-05; 8:45 am]

BILLING CODE 1505-01-D